DEPARTMENT OF VETERANS AFFAIRS

38 CFR Part 3

RIN 2900-AK03, et al.

Withdrawal of Proposed Rules

AGENCY: Department of Veterans Affairs.

ACTION: Withdrawal of proposed rules.

SUMMARY: This document withdraws five proposed rules that would have amended the adjudication regulations. The proposals were previously published in the Federal Register by the Plain Language Regulations Project. The five proposals that are being withdrawn are: (1) State Department as Agent of Department of Veterans Affairs (RIN 2900-AK03) which was published in the Federal Register on August 22, 2001 (66 FR 44095); (2) Finality of Decisions (RIN 2900-AK18) which was published in the Federal Register on October 23, 2001 (66 FR 53565); (3) Renouncement of Benefits (RIN 2900-AK23) which was published in the Federal Register on September 24, 2001 (66 FR 48845); (4) Independent Medical Opinions (RIN 2900-AK31) which was published in the Federal Register on December 7, 2001 (66 FR 64174); and (5) Evidence from Foreign Countries (RIN 2900-AK37) which was published in the Federal Register on October 19, 2001 (66 FR 53139).

A new organization is being created in the Department of Veterans Affairs to manage the regulatory process, and one of its top priorities is the restructuring and rewriting of the adjudication regulations in plain language. Since it is not clear where and how the above noted proposals will fit into the restructured regulations, they are being withdrawn at this time. When the new organization for regulatory management is established, these proposed rules will likely be republished for notice and comment.

FOR FURTHER INFORMATION CONTACT: Bob White, Team Leader, Plain Language Regulations Project, Veterans Benefits Administration, 810 Vermont Avenue, NW., Washington, DC 20420, telephone (202) 273-7228. This is not a toll-free number.

Approved: January 6, 2003.
Anthony J. Principi,
Secretary of Veterans Affairs.

[FR Doc. 03-1094 Filed 1-16-03; 8:45 am]

BILLING CODE 8320-01-P